DEPARTMENT OF LABOR

Employment and Training Administration

[NAFTA-3691]

S. Bent & Bros., Inc., Gardner, MA; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2331), an investigation was initiated on January 31, 2000, in response to a petition filed on the same day by the IUE Local 154-136B FW, on behalf of workers at S. Bent & Bros., Inc., Gardner, Massachusetts.

The petitioner has requested that the petition be withdrawn. Consequently, further investigation in this case would serve no purpose, and the investigation has been terminated.

Signed at Washington, DC, this 4th day of April, 2000.
Grant D. Beale,
Program Manager, Division of Trade Adjustment Assistance.

[FR Doc. 00-8925 Filed 4-10-00; 8:45 am]

BILLING CODE 4510-30-M